DEPARTMENT OF DEFENSE

GENERAL SERVICES ADMINISTRATION

NATIONAL AERONAUTICS AND SPACE ADMINISTRATION

[OMB Control No. 9000-0091; Docket No. 2019-0003; Sequence No. 29]

Submission for OMB Review; Anti-Kickback Procedures

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve a revision and renewal of a previously approved information collection requirement regarding Anti-Kickback Procedures.

DATES: Submit comments on or before December 26, 2019.

ADDRESSES: Submit comments regarding this burden estimate or any other aspect of this collection of information, including suggestions for reducing this burden to:

Office of Information and Regulatory Affairs of OMB, Attention: Desk Officer for GSA, Room 10236, NEOB, Washington, DC 20503 or at Oira_submission@omb.eop.gov. Additionally submit a copy to GSA by any of the following methods:

• Federal eRulemaking Portal: This website provides the ability to type short comments directly into the comment field or attach a file for lengthier comments. Go to http://www.regulations.gov and follow the instructions on the site.

• Mail: General Services Administration, Regulatory Secretariat Division (MVCB), 1800 F Street NW, Washington, DC 20405. ATTN: Lois Mandell/IC 9000-0091, Anti-Kickback Procedures.

Instructions: All items submitted must cite Information Collection 9000-0091, Anti-Kickback Procedures. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Ms. Zenaida Delgado, Procurement Analyst, at telephone 202-969-7207, or zenaida.delgado@gsa.gov.

SUPPLEMENTARY INFORMATION:

A. OMB Control Number, Title, and any Associated Form(s)

9000-0091, Anti-Kickback Procedures.

B. Needs and Uses

Federal Acquisition Regulation (FAR) 52.203-7, Anti-Kickback Procedures, requires that all contractors have in place and follow reasonable procedures designed to prevent and detect in its own operations and direct business relationships, violations of 41 U.S.C. chapter 87, Kickbacks. Whenever prime contractors or subcontractors have reasonable grounds to believe that a violation of the statute may have occurred, they are required to report the possible violation in writing to the contracting agency inspector general, the head of the contracting agency if an agency does not have an inspector general, or the Department of Justice. The information is used to determine if any violations of the statute have occurred.

There is no Governmentwide data collection process or system which identifies the number of alleged violations of 41 U.S.C. chapter 87, Kickbacks, that are reported annually to agency inspectors general, the heads of the contracting agency if an agency does not have an inspector general, or the Department of Justice.

C. Annual Burden

Respondents: 100.

Total Annual Responses: 100.

Total Burden Hours: 2,000.

D. Public Comment

A 60-day notice was published in the Federal Register at 84 FR 44619, on August 26, 2019. One comment was received; however, it did not change the estimate of the burden.

Comment: The commenter asked for support in urging and supporting Senator Thune to reintroduce S. 545, the Pay Our Coast Guard Act, and seek quick action in bringing it to the floor for a vote. The act was introduced in the 114th Congress to make continuous appropriations for Coast Guard pay for a government shutdown.

Response: This comment is out of scope because the information collection requirements covered through OMB Control No. 9000-0091 do not relate to the topic of appropriations for Coast Guard pay.

Obtaining Copies: Requesters may obtain a copy of the information collection documents from the General Services Administration, Regulatory Secretariat Division (MVCB), 1800 F Street NW, Washington, DC 20405, telephone 202-501-4755. Please cite OMB Control No. 9000-0091, Anti-Kickback Procedures, in all correspondence.

Dated: November 20, 2019.
Janet Fry,
Director, Federal Acquisition Policy Division, Office of Governmentwide Acquisition Policy, Office of Acquisition Policy, Office of Governmentwide Policy.

[FR Doc. 2019-25573 Filed 11-25-19; 8:45 a.m.]

BILLING CODE 6820-EP-P